DEPARTMENT OF HOMELAND SECURITY

Transportation Security Administration

Intent to Request Renewal and Amendment From OMB of One Current Public Collection of Information: Critical Facility Information of the Top 100 Most Critical Pipelines

AGENCY: Transportation Security Administration, DHS.

ACTION: 60-day Notice.

SUMMARY: The Transportation Security Administration (TSA) invites public comment on one currently approved Information Collection Request (ICR), Office of Management and Budget (OMB) control number 1652-0050, abstracted below that we will submit to OMB for renewal and amendment in compliance with the Paperwork Reduction Act (PRA). The ICR describes the nature of the information collection and its expected burden. The 9/11 Act required TSA to develop and implement a plan to inspect critical pipeline systems.

DATES: Send your comments by August 15, 2011.

ADDRESSES: Comments may be e-mailed to TSAPRA@dhs.gov or delivered to the TSA PRA Officer, Office of Information Technology (OIT), TSA-11, Transportation Security Administration, 601 South 12th Street, Arlington, VA 20598-6011.

FOR FURTHER INFORMATION CONTACT: Joanna Johnson at the above address, or by telephone (571) 227-3651.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0050; Critical Facility Information of the Top 100 Most Critical Pipelines: Section 1557(b) of the Implementing the Recommendations of the 9/11 Commission Act of 2007, specifically tasked TSA to develop and implement a plan for inspecting critical facilities of the 100 most critical pipeline systems. See Public Law 110-53, 121 Stat. 266, 475 (Aug. 3, 2007). Operators determined their critical facilities based on guidance and criteria set forth in the Department of Transportation's (DOT) September 5, 2002, “Pipeline Security Information Circular” and June 2002 “Pipeline Security Contingency Planning Guidance.” With OMB approval (OMB Control Number 1652-0050), TSA reached out to the operators of the top 125 critical pipeline systems and requested they submit a listing of their critical facilities to TSA. This critical facility information was submitted to TSA between November 2008 and August 2009. In April 2011, TSA updated the “Pipeline Security Guidelines” in consultation with stakeholders and DOT. TSA is now seeking to renew its OMB approval to request critical facility information from the top 125 pipeline operators. TSA anticipates that each operator will report, on average, a total of 5 critical facilities on their system, for a total of approximately 600 critical facilities across the top 125 operators.

Once updated critical facility information is obtained, TSA intends to visit critical pipeline facilities and collect site-specific information from pipeline operators on facility security policies, procedures, and physical security measures. Information obtained on the visits will be collected on a Critical Facility Security Review (CFSR) Form. The CFSR will differ from TSA's Corporate Security Review (CSR) in that a CSR looks at corporate or company-wide security management plans and practices while the CFSR will look at individual pipeline facility security measures and procedures. TSA is seeking OMB approval to utilize the CFSR document during critical facility reviews in order to collect facility security information. Information collected from the reviews would be analyzed and used to determine strengths and weaknesses at the nation's critical pipeline facilities, areas to target for risk reduction strategies, pipeline industry implementation of the voluntary guidelines, and the need for regulations in accordance with Section 1557(d) of the Implementing the Recommendations of the 9/11 Commission Act of 2007. TSA anticipates visiting 120 critical facilities each year.

TSA is also seeking OMB approval to follow up with pipeline operators on their implementation of security improvements and recommendations made during facility visits. During critical facility visits, TSA documents and provides recommendations to improve the security posture of the facility. TSA intends to follow up with pipeline operators via email on their status toward implementation of the recommendations made during the critical facility visits. The follow up will be conducted between approximately 12 and 24 months after the facility visit.

TSA will use the information collected to determine to what extent the pipeline industry is implementing the 2011 guidance document and security improvement recommendations made during critical facility visits. The information provided by owners or operators for each information collection is Sensitive Security Information (SSI), and it will be protected in accordance with procedures meeting the transmission, handling and storage requirements of SSI set forth in 49 CFR parts 15 and 1520.

The burden related to the renewal of the collection for updated critical facility information from the top 125 pipeline system operators will require 4 hours per operator (125 × 4), for a burden of 500 hours in the first year only.

The annual burden for the approval of the information collection related to the Critical Facility Review Form is estimated to be 480 hours. A maximum of 120 facility reviews will be conducted each year with each review taking approximately 4 hours (120 × 4).

The annual burden for the approval of the information collection related to the follow up on the recommendations made to facility operators is estimated to be 600 hours. It will take approximately 5 hours for each operator to submit a response to TSA regarding its implementation of security recommendations made during critical facility visits. If a maximum of 120 critical facilities are reviewed each year, and TSA follows up with each facility operator between approximately 12 and 24 months following the visit, the total annual burden is 600 (120 × 5) hours. An additional burden of 1,750 hours is estimated in the first year only for information collection on the follow up of the recommendations made during the 350 facility visits conducted in accordance with the requirement in the 9/11 Act (350 × 5 = 1,750). The estimated number of respondents will be 125 for the renewal of the critical facility data and 600 for the critical facility review form and recommendations. The total estimated burdens are 2,730 hours in the first year and 1,080 hours annually in subsequent years.

Issued in Arlington, Virginia, on June 13, 2011.
Joanna Johnson,
TSA Paperwork Reduction Act Officer, Office of Information Technology.

[FR Doc. 2011-14996 Filed 6-15-11; 8:45 am]

BILLING CODE 9110-05-P